SMALL BUSINESS ADMINISTRATION

Meeting of the Advisory Committee on Veterans Business Affairs

AGENCY: U.S. Small Business Administration

ACTION: Notice of open Federal Advisory Committee Meeting.

SUMMARY: The U.S. Small Business Administration (SBA) is issuing this notice to announce the location, date, time, and agenda for the next meeting of the Advisory Committee on Veterans Business Affairs. The meeting is open to the public.

DATES: Thursday, September 6, 2018, from 9:00 a.m. to 4:00 p.m.

Where: Eisenhower Conference Room B, located on the concourse level.

Contact Info: (Teleconference Dial-in) 1-202-765-1264, Access Code: 67117721; (Webinar) Skype for Business will be utilized for this meeting. Those wishing to attend via Skype should test their systems prior to the meeting to ensure access. Help for Skype can be found at https://support.office.com/en-us/skype-for-business. Participants can join the Skype meeting at: https://meet.lync.com/sba123/abgarcia/MYK5Y 480. For additional instructions on joining via Skype, please email veteransbusiness@sba.gov.

SUPPLEMENTARY INFORMATION: Pursuant to section 10(a)(2) of the Federal Advisory Committee Act (5 U.S.C., Appendix 2), SBA announces the meeting of the Advisory Committee on Veterans Business Affairs (ACVBA). The ACVBA is established pursuant to 15 U.S.C. 657(b) note, and serves as an independent source of advice and policy. The purpose of this meeting is to focus on strategic planning, updates on past and current events, and the ACVBA's objectives for 2018.

Additional Information: This meeting is open to the public. Advance notice of attendance is requested. Anyone wishing to attend and/or make comments to the ACVBA must contact SBA's Office of Veterans Business Development no later than August 29, 2018 at veteransbusiness@sba.gov. Comments for the record will be limited to five minutes to accommodate as many participants as possible. Written comments should be sent to the above by August 29, 2018. Special accommodation requests should also be directed to SBA's Office of Veterans Business Development at (202) 205-6773 or veteransbusiness@sba.gov.

For more information on veteran owned small business programs, please visit www.sba.gov/ovbd.

Dated: August 14, 2018.
Mitchell Tyner,
SBA Committee Management Officer.

[FR Doc. 2018-19115 Filed 8-31-18; 8:45 am]

BILLING CODE 8025-01-P